NATIONAL AERONAUTICS AND SPACE ADMINISTRATION

[Notice: (12-002)]

Meeting of NASA Advisory Council Science Committee Heliophysics Subcommittee

AGENCY: National Aeronautics and Space Administration.

ACTION: Notice of meeting.

SUMMARY: In accordance with the Federal Advisory Committee Act, Public Law 92-463, as amended, the National Aeronautics and Space Administration (NASA) announces a meeting of the Heliophysics Subcommittee of the NASA Advisory Council (NAC). This Subcommittee reports to the Science Committee of the NAC. The meeting will be held for the purpose of soliciting, from the scientific community and other persons, scientific and technical information relevant to program planning.

DATES: Monday, February 27, 2012, 9 a.m. to 5:30 p.m. and Tuesday, February 28, 2012, 9 a.m. to 4:30 p.m., Local Time.

ADDRESSES: NASA Headquarters, 300 E Street SW., Room 8H40, Washington, DC 20546.

FOR FURTHER INFORMATION CONTACT: Ms. Marian Norris, Science Mission Directorate, NASA Headquarters, Washington, DC 20546, (202) 358-4452, fax (202) 358-4118, or mnorris@nasa.gov.

SUPPLEMENTARY INFORMATION: The meeting will be open to the public up to the capacity of the room. The agenda for the meeting includes the following topics:

—Heliophysics Division Overview and Program Status

—Status of the Explorer Program

—Status of Solar Terrestrial Probes Program

—Status of Current Flight Missions

—Research and Analysis Programs

—Heliophysics Budget Status

—Heliophysics Strategic Planning

It is imperative that the meeting be held on these dates to accommodate the scheduling priorities of the key participants. Attendees will be requested to sign a register and to comply with NASA security requirements, including the presentation of a valid picture ID, before receiving an access badge. Foreign nationals attending this meeting will be required to provide a copy of their passport and visa in addition to providing the following information no less than 10 working days prior to the meeting: full name; gender; date/place of birth; citizenship; visa/green card information (number, type, expiration date); passport information (number, country, expiration date); employer/affiliation information (name of institution, address, country, telephone); title/position of attendee. To expedite admittance, attendees with U.S. citizenship and green cards should provide identifying information 3 working days in advance by contacting Marian Norris via email at mnorris@nasa.gov or by telephone at (202) 358-4452.

Patricia D. Rausch,
Advisory Committee Management Officer, National Aeronautics and Space Administration.

[FR Doc. 2012-640 Filed 1-13-12; 8:45 am]

BILLING CODE 7510-13-P